ENVIRONMENTAL PROTECTION AGENCY

40 CFR Part 63

[FRL-7270-9]

Approval of the Clean Air Act, Section 112(l), Authority for Hazardous Air Pollutants; Perchloroethylene Air Emission Standards for Dry Cleaning Facilities; Commonwealth of Massachusetts Department of Environmental Protection

AGENCY: Environmental Protection Agency (EPA).

ACTION: Proposed rule.

SUMMARY: EPA proposes to approve Massachusetts Department of Environmental Protection's (MA DEP) request to implement and enforce its Regulation 310 CMR, Sections 7.26(10)-(16) Perchloroethylene Air Emissions Standards for Dry Cleaning Facilities and Sections 70.01-04 Environmental Results Program Certification pertaining to dry cleaning facilities in place of the National Perchloroethylene Air Emission Standards for Dry Cleaning Facilities (“Drycleaning NESHAPS”), as it applies to area sources. Approval of this request would make Massachusetts Department of Environmental Protection's rules federally enforceable and would reduce the burden on area sources within the Commonwealth of Massachusetts's jurisdiction such that they would only have one rule with which they must comply. Major sources would remain subject to the Federal drycleaning NESHAP.

In the final rules section of this Federal Register, EPA is approving MA DEP's request as a direct final rule without prior proposal because the Agency views this as a noncontroversial action and anticipates no relevant adverse comments. MA DEP has been enforcing its own regulations since 1997. A detailed rationale for the approval is set forth in the direct final rule. If no relevant adverse comments are received in response to this action, EPA will take no further action on this proposed rule. If the EPA receives relevant adverse comments, EPA will withdraw the direct final rule and it will not take effect. EPA will then address all public comments received in a subsequent final rule based on this proposed rule. The EPA will not institute a second comment period in this action.

DATES: Written comments must be received on or before October 16, 2002.

ADDRESSES: Written comments should be mailed concurrently to the addresses below: Steven Rapp, Chief, Air Permits, Toxics, and Indoor Programs Unit (CAP), U.S. Environmental Protection Agency, Region I, One Congress Street, Suite 1100, Boston, MA 02114.

Steven DeGabriele, Director, Business Compliance Division, Massachusetts Department of Environmental Protection, One Winter Street, Boston, MA 02108.

Copies of the requests for approval are available for public inspection at EPA's Region I Office, Air Permits, Toxics and Indoor Programs Unit during normal business hours.

FOR FURTHER INFORMATION CONTACT: MaryBeth Smuts, Air Permits, Toxics, and Indoor Programs Unit, U.S. EPA Region I, One Congress St, Suite 1100, Boston, MA 02114, (617) 918-1512.

SUPPLEMENTARY INFORMATION: For additional information see the direct final action which is published in the Rules section of this Federal Register.

Dated: August 13, 2002.
Robert W. Varney,
Regional Administrator, EPA-New England.

[FR Doc. 02-23258 Filed 9-13-02; 8:45 am]

BILLING CODE 6560-50-P